DEPARTMENT OF COMMERCE

International Trade Administration

[C-533-896]

Common Alloy Aluminum Sheet From India: Final Results of Countervailing Duty Administrative Review; 2020-2021

AGENCY: Enforcement and Compliance, International Trade Administration, Department of Commerce.

SUMMARY: The U.S. Department of Commerce (Commerce) determines that Hindalco Industries Limited (Hindalco), a producer/exporter of common alloy aluminum sheet (aluminum sheet) from India received countervailable subsidies during the period of review (POR), August 14, 2020, through December 31, 2021.

DATES: Applicable November 6, 2023.

FOR FURTHER INFORMATION CONTACT: Benito Ballesteros, AD/CVD Operations, Office IX, Enforcement and Compliance, International Trade Administration, U.S. Department of Commerce, 1401 Constitution Avenue NW, Washington, DC 20230; telephone: (202) 482-7425.

SUPPLEMENTARY INFORMATION:

Background

On May 4, 2023, Commerce published the Preliminary Results of this administrative review in the Federal Register and invited interested parties to comment.¹ On August 1, 2023, Commerce extended the deadline for issuing the final results until October 31, 2023.² For a complete description of the events that occurred since the publication of the Preliminary Results, see the Issues and Decision Memorandum.³

¹ See Common Alloy Aluminum Sheet from India: Preliminary Results of Countervailing Duty Administrative Review and Partial Rescission; 2020-21, 88 FR 28487 (May 4, 2023) (Preliminary Results), and accompanying Preliminary Decision Memorandum (PDM).

² See Memorandum, “Extension of Deadline for Final Results,” dated August 1, 2023.

³ See Memorandum, “Common Alloy Aluminum Sheet from India: Issues and Decision Memorandum for the Final Results of the Countervailing Duty Administrative Review; 2020-2021,” dated concurrently with, and hereby adopted by, this notice (Issues and Decision Memorandum).

Scope of the Order ⁴

⁴ See Common Alloy Aluminum Sheet from Bahrain, India, and the Republic of Turkey: Countervailing Duty Orders, 86 FR 22144 (April 27, 2021) (Order).

The product covered by the Order is aluminum sheet.⁵

⁵ For a complete description of the scope of the Order, see Preliminary Results PDM.

Analysis of Comments Received

All issues raised by the interested parties in their case and rebuttal briefs are addressed in the Issues and Decision Memorandum. A list of topics discussed in the Issues and Decision Memorandum is provided in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on comments received from interested parties, we revised our analysis for certain programs in this review.⁶ However, we made no changes to the calculations of the net countervailable subsidy rates for Hindalco.

⁶ For a full description of these revisions, see the Issues and Decision Memorandum.

Methodology

Commerce conducted this administrative review in accordance with section 751(a)(1)(A) of the Tariff Act of 1930, as amended (the Act). For each of the subsidy programs found countervailable, we find that there is a subsidy, i.e., a government-provided financial contribution that gives rise to a benefit to the recipient, and that the subsidy is specific.⁷ For a full description of the methodology underlying all of Commerce's conclusions, see the Issues and Decision Memorandum.

⁷ See sections 771(5)(B) and (D) of the Act regarding financial contribution; section 771(5)(E) of the Act regarding benefit; and section 771(5A) of the Act regarding specificity.

Final Results of Review

As a result of this review, Commerce determines the following net countervailable subsidy rates exist for 2020 and 2021:

Company | Subsidy rate (percent ad valorem) 2020 | Subsidy rate (percent ad valorem) 2021
Hindalco Industries Limited ⁸ | 37.90 | 32.43

Disclosure

⁸ As discussed in the PDM, Commerce has found the following company to be cross-owned with Hindalco: Utkal Alumina International Limited. See Preliminary Results PDM at 7.

Normally, Commerce discloses to interested parties the calculations for the final results of review within five days of public announcement or, if there is no public announcement, within five days of the date of publication of the notice of final results in the Federal Register, in accordance with 19 CFR 351.224(b). However, because we have made no changes to Hindalco's calculations in the final results, there are no calculations to disclose.

Assessment Rates

In accordance with section 751(a)(2)(C) of the Act and 19 CFR 351.212(b)(2), Commerce has determined, and U.S. Customs and Border Protection (CBP) shall assess, countervailing duties on all appropriate entries covered by this review for Hindalco at the applicable ad valorem assessment rates listed for the corresponding time periods. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(2)(C) of the Act, Commerce will instruct CBP to collect cash deposits of estimated countervailing duties in the amount established for 2021 for Hindalco with regard to shipments of subject merchandise entered, or withdrawn from warehouse, for consumption on or after the date of publication of the final results of this review. For all non-reviewed firms, CBP will continue to collect cash deposits of estimated countervailing duties at the all-others rate or the most recent company-specific rate applicable to the company, as appropriate. These cash deposit requirements, when imposed, shall remain in effect until further notice.

Administrative Protective Order

This notice also serves as the final reminder to parties subject to an administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

We are issuing and publishing these final results in accordance with sections 751(a)(1) and 777(i)(1) of the Act, and 19 CFR 351.221(b)(5).

Dated: October 31, 2023.
Lisa W. Wang,
Assistant Secretary for Enforcement and Compliance.

Appendix

List of Topics Discusses in the Issues and Decision Memorandum

I. Summary

II. Background

III. Subsidies Valuation

IV. Analysis of Programs

V. Discussion of the Issues

Comment 1: Benefit Analysis—Mining Rights Lease Extensions Program

Comment 2: Whether the Provision of Coal for Less than Adequate Renumeration (LTAR) is Specific

Comment 3: Whether the Selection of the Coal Benchmark Is Appropriate

Comment 4: Whether the Remission of Duties and Taxes on Export Products (RODTEP) Program is Countervailable

Comment 5: Whether to Apply Adverse Facts Available (AFA) to the Programs Discovered at Verification

VI. Recommendation

[FR Doc. 2023-24489 Filed 11-3-23; 8:45 am]

BILLING CODE 3510-DS-P